DEPARTMENT OF ENERGY

Federal Energy Regulatory Commission

[Docket No. IC13-14-000]

Commission Information Collection Activities (FERC Form 80); Comment Request; Extension

AGENCY: Federal Energy Regulatory Commission.

ACTION: Comment request.

SUMMARY: In compliance with the requirements of the Paperwork Reduction Act of 1995, 44 U.S.C. 3507(a)(1)(D), the Federal Energy Regulatory Commission (Commission or FERC) is submitting the information collection, FERC Form 80, Licensed Hydropower Development Recreation Report, to the Office of Management and Budget (OMB) for review of the information collection requirements. Any interested person may file comments directly with OMB and should address a copy of those comments to the Commission as explained below. The Commission issued a Notice in the Federal Register (78 FR 28820, 5/16/2013) requesting public comments. FERC received no comments on the FERC Form 80 and is making this notation in its submittal to OMB.

DATES: Comments on the collection of information are due August 29, 2013.

ADDRESSES: Comments filed with OMB, identified by the OMB Control No. 1902-0106, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC13-14-000, by either of the following methods:

• eFiling at Commission's Web site: http://www.ferc.gov/docs-filing/efiling.asp

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC Form 80, Licensed Hydropower Development Recreation Report.

OMB Control No.: 1902-0106.

Type of Request: Minor revisions to the FERC Form 80 information collection requirements with no change to the current reporting burden.

Abstract: FERC uses the information on the FERC Form 80 to implement the statutory provisions of sections 4(a), 10(a), 301(a), 304 and 309 of the Federal Power Act (FPA), 16 U.S.C. 797, 803, 825c & 8254. FERC's authority to collect this information comes from section 10(a) of the FPA which requires the Commission to be responsible for ensuring that hydro projects subject to FERC jurisdiction are consistent with the comprehensive development of the nation's waterway for recreation and other beneficial public uses. In the interest of fulfilling these objectives, FERC expects licensees subject to its jurisdiction to recognize the resources that are affected by their activities and to play a role in protecting such resources.

FERC Form 80 is a report on the use and development of recreational facilities at hydropower projects licensed by the Commission. Applications for licenses, amendments to licenses, and/or changes in land rights frequently involve changes in resources available for recreation. FERC utilizes the FERC Form 80 data when analyzing the adequacy of existing public recreational facilities and when processing and reviewing proposed amendments to help determine the impact of such changes. In addition, the FERC regional office staff uses the FERC Form 80 data when conducting inspections of licensed projects. FERC inspectors use the data in evaluating compliance with various license conditions and in identifying recreational facilities at hydropower projects.

The FERC Form 80 requires data specified by Title 18 of the Code of Federal Regulations (CFR) under Parts 8.11 and 141.14 (and discussed at http://www.ferc.gov/docs-filing/forms.asp#80).

FERC collects the FERC Form 80 once every six years. The last collection was due on April 1, 2009, for data compiled during the 2008 calendar year. The next collection of the FERC Form 80 is due on April 1, 2015, with subsequent collections due every sixth year, for data compiled during the previous calendar year.

The Commission made minor revisions throughout the form. Specifically, FERC clarified and simplified instructions, removed redundancy in certain questions, clarified questions and terms, and generally improved the readability of the form.

FERC has attached the revised form to this notice.

Type of Respondents: Hydropower project licensees.

Estimate of Annual Burden:¹ For each reporting period, FERC estimates the total Public Reporting Burden for this information collection as: (a) 1,000 respondents, (b) 0.167 responses/respondent, and (c) 3 hours per response, giving a total of 501 burden hours. The Commission has increased its total number of respondents to reflect the actual numbers we received during the last two reporting periods. In addition, FERC spreads the burden hours and costs over the six-year collection cycle in the table below to reflect how the information is collected. The average burden hours per response remains unchanged. These are the figures FERC will submit to OMB.

¹ FERC defines burden as the total time, effort, or financial resources expended by persons to generate, maintain, retain, or disclose or provide information to or for a Federal agency. For further explanation of what is included in the information collection burden, reference 5 Code of Federal Regulations 1320.3.

FERC-80—Licensed Hydropower Development Recreation Report
Number of respondents | Number of responses per respondent ² | Total number of responses | Average burden hours per response | Estimated total annual burden
(A) | (B) | (A) × (B) = (C) | (D) | (C) × (D)
1,000 | 0.167 | 167 | 3 | 501

The total estimated annual cost burden to respondents is $35,070 [501 hours * $70/hour ³ = $35,070].

² FERC divides the responses per respondent by six because this collection occurs once every six years.

³ FY 2013 Estimated Average Hourly Cost per FTE, including salary + benefits.

Comments: The Commission invites comments on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: July 23, 2013.
Kimberly D. Bose,
Secretary.

[FR Doc. 2013-18208 Filed 7-29-13; 8:45 am]

BILLING CODE 6717-01-P